DEPARTMENT OF ENERGY

[FE Docket Nos. 12-21-NG; 12-43-NG; 12-48-LNG]

Noble Americas Gas & Power Corp., LNG Development Company, LLC, LNG Development Company, LLC (d/b/a Oregon LNG); Notice of Orders Granting Authority To Import and Export Natural Gas and Liquefied Natural Gas During May 2012

AGENCY: Office of Fossil Energy, Department of Energy (DOE).

ACTION: Notice of orders.

SUMMARY: The Office of Fossil Energy (FE) of the Department of Energy gives notice that during May 2012, it issued Orders granting authority to import and export natural gas and liquefied natural gas. These Orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8 a.m. and 4:30 p.m., Monday through Friday, except Federal holidays.

Issued in Washington, DC, on June 25, 2012.
John A. Anderson,
Manager, Natural Gas Regulatory Activities, Office of Oil and Gas Global Security and Supply, Office of Fossil Energy.

APPENDIX

DOE/FE Orders Granting Import/Export Authorizations
Order No. | Date Issued | FE Docket No. | Authorization Holder | Description of Action
3098 | 05/03/12 | 12-21-NG | Noble Americas Gas & Power Corp | Order granting blanket authority to import/export natural gas from/to Canada/Mexico, and to import LNG from various international sources by vessel.
3099 | 05/31/12 | 12-43-NG | LNG Development Company, LLC | Order granting blanket authority to import natural gas from Canada.
3100 | 05/31/12 | 12-48-LNG | LNG Development Company, LLC (d/b/a Oregon LNG) | Order granting long-term multi-contract authority to export LNG by vessel from the proposed LNG Terminal in Warrenton, Clatsop County, Oregon to Free Trade Agreement nations.

[FR Doc. 2012-16032 Filed 6-28-12; 8:45 am]

BILLING CODE 6450-01-P